FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than December 8, 2021.

A. Federal Reserve Bank of Richmond (Adam M. Drimer, Assistant Vice President) 701 East Byrd Street, Richmond, Virginia 23219. Comments can also be sent electronically to or Comments.applications@rich.frb.org:

1. The Carolyn E. Farr Trust, Harrisville, West Virginia, Scott A. Windom, as trustee, and Rodney C. Windom, all of Cairo, West Virginia; William A. Farr, West Union, West Virginia; John C. Farr, Woodinville, Washington; Paul D. Farr, Little Hocking, Ohio; and Lee Ann Farr, Frankfort, West Virginia; as a group acting in concert to retain voting shares of Tri-County Bancorp, Inc., and thereby indirectly retain voting shares of West Union Bank, both of West Union, West Virginia.

B. Federal Reserve Bank of Kansas City (Jeffrey Imgarten, Assistant Vice President) 1 Memorial Drive, Kansas City, Missouri 64198-0001:

1. James P. Liggett, Vancouver Washington; Scott P. Liggett, Islamorada, Florida; and Lee B. Liggett, Phippsburg, Maine; to form the Liggett Family Group, a group acting in concert, to acquire voting shares of First National Utica Company, and thereby indirectly acquire voting shares of First Bank of Utica, both of Utica, Nebraska.

Board of Governors of the Federal Reserve System, November 18, 2021.
Michele Taylor Fennell,
Deputy Associate Secretary of the Board.

[FR Doc. 2021-25569 Filed 11-22-21; 8:45 am]

BILLING CODE P